DEPARTMENT OF HOMELAND SECURITY

U.S. Customs and Border Protection

19 CFR Part 101

[Docket No. USCBP-2017-0017; CBP Dec. 18-03]

Extension of Port Limits of Savannah, GA

AGENCY: U.S. Customs and Border Protection, Department of Homeland Security.

ACTION: Final rule.

SUMMARY: This document adopts as a final rule, with changes, proposed amendments to U.S. Customs and Border Protection (CBP) regulations pertaining to the expansion of the geographical limits of the port of entry of Savannah, Georgia. The port limits will be expanded to make the boundaries more easily identifiable to the public and to allow for uniform and continuous service to the extended area of Savannah, Georgia. This change is part of CBP's continuing program to use its personnel, facilities, and resources more efficiently and to provide better service to carriers, importers, and the general public.

DATES: Effective Date: May 11, 2018.

FOR FURTHER INFORMATION CONTACT: Roger Kaplan, Office of Field Operations, U.S. Customs and Border Protection, (202) 325-4543, or by email at Roger.Kaplan@dhs.gov.

SUPPLEMENTARY INFORMATION:

Background

In a Notice of Proposed Rulemaking (NPRM) published in the Federal Register (82 FR 30807) on July 3, 2017, U.S. Customs and Border Protection (CBP) proposed to amend § 101.3(b)(1) of title 19 of the Code of Federal Regulations (CFR) to extend the geographical limits of the port of entry of Savannah, Georgia. The proposed boundaries of the port of entry included the majority of Chatham County, Georgia, as well as a small portion of Jasper County, South Carolina.

As explained in the NPRM, Savannah, Georgia was designated as a customs port of entry by the President's message of March 3, 1913, concerning the reorganization of the U.S. Customs Service pursuant to the Act of August 24, 1912 (37 Stat. 434; 19 U.S.C. 1). Executive Order 8367, dated March 5, 1940, established specific geographical boundaries for the port of entry of Savannah, Georgia.

In the July 2017 NPRM, CBP proposed to amend the geographical limits of the port of entry of Savannah, Georgia because the current boundaries established by the Executive Order do not include a large portion of Savannah-Hilton Head International Airport, including the site of a proposed replacement Federal Inspection Service facility for arriving international travelers, or distribution centers and cold storage agricultural facilities that support the seaport. Also, most of the projected facilities, such as a new ship terminal with two berths for container ships and bonded warehouses, which will be built on the region's remaining undeveloped properties will be outside of the boundaries of the current port of entry. CBP determined that the extension of the boundaries would not result in a change in the service that is provided to the public by the port and would not require a change in the staffing or workload at the port. For the proposed rule, CBP posted on the docket on http://www.regulations.gov a map of the Savannah area with the current port limits marked by blue lines and the proposed port limits marked by red lines.

The NPRM solicited public comment on the proposed rulemaking. The public comment period closed on September 1, 2017.

Discussion of Comments

One commenter responded to the solicitation of comments to the proposed rule. A description of the comment received, together with CBP's analysis, is set forth below.

Comment:

The commenter fully supported the expansion of the port limits, but was concerned that the proposed limits did not take into consideration the warehouses and distribution centers being built to accommodate the current volume of trade. The commenter suggested that the western portion of the boundary line be extended to the county line (west of Interstate Highway 95) to support the future growth of the area, provide jobs and further solidify Savannah's position in international trade.

CBP Response:

CBP agrees with the commenter's suggestion to extend the western portion of the boundary line as the purpose of expanding the port of entry of Savannah is to provide better services to the carriers, importers and the general public. In addition, CBP has become aware that import facilities are just outside of Chatham County. Thus, CBP is extending the western boundary slightly into Effingham County to include those facilities. The further extension of the port would not require a change in staffing or workload at the port.

Conclusion

After review of the comment, CBP has determined to further expand the boundaries of the Savannah port of entry in this final rule. Instead of the western boundaries being along the Federal Interstate Highway 95, they begin where Highway 204 (Fort Argyle Road) intersects with Federal Interstate Highway 95, then proceed north to the intersection with Old River Road, then north along Old River Road until it intersects with Federal Interstate Highway 16, then east along Federal Interstate Highway 16 until it meets the Chatham County line, and then north along the Chatham County line until it meets the intersection with Federal Interstate Highway 95 and the Georgia-South Carolina state line. The new port limits are described below, and the map posted on the docket on http://www.regulations.gov shows the new port limits as expanded by this final rule marked by the blue and black lines.

Port Description of Savannah, Georgia

The final port limits of the port of entry of Savannah, Georgia, are as follows: From 32°14.588′ N-081° 08.455′ W (where Federal Interstate Highway 95 crosses the Georgia-South Carolina state line) and extending in a straight line to 32°04.903′ N-080°54.998′ W (where Walls Cut meets Wright River and Turtle Island); then proceeding in a straight line to 31°52.651′ N-081°03.331′ W (where Adams Creek meets Green Island Sound); then proceeding northwest in a straight line to 32°00.280′ N-081°17.00′ W (where Highway 204 intersects Federal Interstate Highway 95); then proceeding northwest along Fort Argyle Road (Highway 204) to the intersection with Old River Road; then proceeding north on Old River Road to the intersection with Federal Interstate Highway 16; then proceeding southeast along Federal Interstate Highway 16 to the Chatham County line; then proceeding northeast and then east along the length of the Chatham County line until it intersects with Federal Interstate Highway 95 at Knoxboro Creek; then proceeding north on Federal Interstate Highway 95 to the point of beginning at the Georgia-South Carolina state line.

Authority

This change is made under the authority of 5 U.S.C. 301, 6 U.S.C. 101, et seq.; 19 U.S.C. 2, 66, 1202 (General Note 3(i), Harmonized Tariff Schedule of the United States), 1623, 1624, 1646a.

Regulatory Requirements

A. Executive Orders 12866, 13563 and 13771

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. Executive Order 13771 (“Reducing Regulation and Controlling Regulatory Costs”) directs agencies to reduce regulation and control regulatory costs and provides that “for every one new regulation issued, at least two prior regulations be identified for elimination, and that the cost of planned regulations be prudently managed and controlled through a budgeting process.”

The Office of Management and Budget (OMB) has not designated this rule a significant regulatory action under section 3(f) of Executive Order 12866. Accordingly, OMB has not reviewed it. As this rule is not a significant regulatory action, this rule is exempt from the requirements of Executive Order 13771. See OMB's Memorandum “Guidance Implementing Executive Order 13771, Titled `Reducing Regulation and Controlling Regulatory Costs' ” (April 5, 2017).

The final rule expands the geographical boundaries of the Savannah, Georgia, port of entry, and makes the boundaries more easily identifiable to the public. There are no new costs to the public associated with this rule.

B. Regulatory Flexibility Act

The Regulatory Flexibility Act (5 U.S.C. 601 et. seq.), as amended by the Small Business Regulatory Enforcement and Fairness Act of 1996, requires agencies to assess the impact of regulations on small entities. A small entity may be a small business (defined as any independently owned and operated business not dominant in its field that qualifies as a small business per the Small Business Act); a small not-for-profit organization; or a small governmental jurisdiction (locality with fewer than 50,000 people).

This final rule merely expands the limits of an existing port of entry and does not impose any new costs on the public. Accordingly, we certify that this rule will not have a significant economic impact on a substantial number of small entities.

C. Unfunded Mandates Reform Act of 1995

This rule will not result in the expenditure by State, local, and tribal governments, in the aggregate, or by the private sector, of $100 million or more in any one year, and it will not significantly or uniquely affect small governments. Therefore, no actions are necessary under the provisions of the Unfunded Mandates Reform Act of 1995.

D. Executive Order 13132

This rule will not have substantial direct effects on the States, on the relationship between the National Government and the States, or on the distribution of power and responsibilities among the various levels of government. Therefore, in accordance with section 6 of Executive Order 13132, this rule does not have sufficient federalism implications to warrant the preparation of a federalism summary impact statement.

Signing Authority

The signing authority for this document falls under 19 CFR 0.2(a) because the extension of port limits is not within the bounds of those regulations for which the Secretary of the Treasury has retained sole authority. Accordingly, this final rule may be signed by the Secretary of Homeland Security (or her delegate).

List of Subjects in 19 CFR Part 101

Customs ports of entry, Harbors, Organization and functions (Government agencies), Seals and insignia, Vessels.

Amendment to the Regulations

For the reasons set forth above, part 101, CBP Regulations (19 CFR part 101), is amended as set forth below:

PART 101—GENERAL PROVISIONS

1. The general authority citation for part 101 and the relevant specific authority citation for section 101.3 continue to read as follows:

Authority: 5 U.S.C. 301; 6 U.S.C. 101, et seq.; 19 U.S.C. 2, 66, 1202 (General Note 3(i), Harmonized Tariff Schedule of the United States), 1623, 1624, 1646a.

* * * * *

Section 101.3 and 101.4 also issued under 19 U.S.C. 1 and 58b.

* * * * *

§ 101.3 [Amended]

2. In § 101.3(b)(1), the table is amended under the State of Georgia by removing from the “Limits of port” column for Savannah the present limits description “Including territory described in E.O. 8367, Mar. 5, 1940 (5 FR 985).” and adding the words “CBP Dec. 18-03” in its place.

Dated: April 4, 2018.
Elaine C. Duke,
Deputy Secretary of Homeland Security.

[FR Doc. 2018-07381 Filed 4-10-18; 8:45 am]

BILLING CODE 9111-14-P